NATIONAL AERONAUTICS AND SPACE ADMINISTRATION

[Notice 05-142]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: September 16, 2005.

FOR FURTHER INFORMATION CONTACT: Linda B. Blackburn, Patent Counsel, Langley Research Center, Mail Code 141, Hampton, VA 23681-2199; telephone (757) 864-9260; fax (757) 864-9190.

NASA Case No. LAR-16877-1: Double Vacuum Bag Process for Resin Matrix Composite Manufacturing;

NASA Case No. LAR-17157-1: Liquid Crystalline Thermosets From Ester, Ester-Imide, and Ester-Amide Oligomers;

NASA Case No. LAR-16615-2: Polyimide Foams;

NASA Case No. LAR-16907-1: Deconvolution Methods and Systems for the Mapping of Acoustic Sources From Phased Microphone Arrays;

NASA Case No. LAR-16437-1-NP: Templated Growth of Carbon Nanotubes;

NASA Case No. LAR-16256-1: Method and Apparatus for Performance Optimization Through Physical Perturbation of Task Elements;

NASA Case No. LAR-16535-1: Composite Panel Having Subsonic Transverse Wave Speed Characteristics;

NASA Case No. LAR-15816-3: Piezoelectric Composite Apparatus and a Method for Fabricating the Same;

NASA Case No. LAR-16900-1: Carbon Nanotube-Based Sensor and Method for Detection of Crack Growth in a Structure;

NASA Case No. LAR-16946-1: Noise Reduction of Aircraft Flap.

Dated: September 12, 2005.
Keith T. Sefton,
Deputy General Counsel, Administration and Management.

[FR Doc. 05-18462 Filed 9-15-05; 8:45 am]

BILLING CODE 7510-13-P